DEPARTMENT OF AGRICULTURE

Farm Service Agency

National Drought Policy Commission

AGENCY: Farm Service Agency, USDA.

ACTION: Notice of Commission public hearing.

SUMMARY: The National Drought Policy Commission (Commission) shall conduct a thorough study and submit a report to the President and Congress on national drought policy. This notice announces a public hearing to be held on February 3, 2000, in Atlanta, Georgia, and seeks comments on issues that the Commission should address and recommendations that the Commission should consider as part of its report. The hearing is open to the public.

DATES: The Commission will conduct a public hearing on February 3, 2000, from 9:00 a.m. to 5:00 p.m. (Eastern Standard Time) at Georgia State University Student Center, Speaker's Auditorium, 44 Courtland Street, Atlanta, Georgia.

Anyone wishing to make an oral presentation to the Commission at the public hearing, must contact the Executive Director, Leona Dittus, in writing (by letter, fax or internet) no later than COB, January 27, 2000, in order to be included on the agenda. Presenters will be approved on a first-come, first-served basis. The request should identify the name and affiliation of the individual who will make the presentation and an outline of the issues to be addressed. Thirty-five copies of any written presentation material shall be given to the Executive Director by all presenters no later than the time of the presentation for distribution to the Commission and the interested public. Those wishing to testify, but who are unable to notify the Commission office by January 27, 2000, will be able to sign up as a presenter the day of the hearing (February 3, 2000) between 8:00 a.m. and 1:00 p.m. (Eastern Standard Time). These presenters will testify on a first-come, first-served basis and comments will be limited based on the time available and the number of presenters. Written statements will be accepted at the meeting, or may be mailed or faxed to the Commission office.

Persons with disabilities who require accommodations to attend or participate in this meeting should contact Leona Dittus, on 202-720-3168, or Federal Relay Service at 1-800-877-8339, and leona.dittus@usda.gov, by COB January 27, 2000.

Comments: The public is invited to respond and/or to submit additional comments, concerns, and issues for consideration by the Commission.

ADDRESSES: Comments and statements should be sent to Leona Dittus, Executive Director, National Drought Policy Commission, U.S. Department of Agriculture, 1400 Independence Avenue, SW, Room 6701-S, STOP 0501, Washington, D.C. 20250-0501.

FOR FURTHER INFORMATION CONTACT: Leona Dittus (202) 720-3168; FAX (202) 720-9688; Internet: leona.dittus@usda.gov.

SUPPLEMENTARY INFORMATION: The purpose of the Commission is to provide advice and recommendations to the President and Congress on the creation of an integrated, coordinated Federal policy, designed to prepare for and respond to serious drought emergencies. Tasks for the Commission include developing recommendations that will (a) better integrate Federal laws and programs with ongoing State, local, and tribal programs, (b) improve public awareness of the need for drought mitigation, prevention, and response and (c) determine whether all Federal drought preparation and response programs should be consolidated under one existing Federal agency, and, if so, identify the agency.

Below is a draft vision statement and set of principles to guide the Commission. Draft Vision Statement: Our vision is of a well-informed, involved U.S. citizenry and its governments prepared for and capable of lessening the impacts of drought—consistently and timely—in the new millennium.

This vision is based on the following principles:

Consideration of all affected entities and related issues, including legal, economic, geographic, climate, religious, and cultural differences; fairness and equity; and environmental concerns;

Comprehensive, long-term strategies that emphasize drought planning and measures to reduce the impacts of drought;

Federal role focused on appropriate coordination, technical assistance, education, and incentives while at all times respecting the rights and responsibilities of Federal, State, and local governments, and tribal sovereignty;

Self-reliance and self-determination;

Lessons learned from past drought experiences;

Shared drought-related expertise and knowledge across international borders.

In addition to your own views and thoughts regarding a national drought policy, as you review the draft vision and guiding principles, the Commission would be interested in your thoughts regarding the following questions:

1. What is the best means for informing the public of Federal assistance for drought planning and mitigation?

2. What type of information do you need for responding to the drought?

3. What needs do you or your organization presently have with respect to addressing drought conditions?

4. What do you see as the Federal role with respect to drought preparedness? Drought response? Should Federal emergency assistance be contingent on advance preparedness?

5. Are there any ways you feel that the Federal Government could better coordinate with State, regional, tribal, and local governments in mitigating or responding to droughts?

6. What lessons have you or your organization learned from past drought experiences that would be beneficial in the creation of a national drought policy?

Signed at Washington, D.C., on January 18, 2000.
Keith Kelly,
Administrator, Farm Service Agency.

[FR Doc. 00-1633 Filed 1-19-00; 2:27 pm]

BILLING CODE 3410-05-P